DEPARTMENT OF HOMELAND SECURITY

U.S. Customs and Border Protection

[Docket No. USCBP-2024-0021]

Commercial Customs Operations Advisory Committee

AGENCY: U.S. Customs and Border Protection (CBP), Department of Homeland Security (DHS).

ACTION: Committee management; notice of open Federal advisory committee meeting.

SUMMARY: The Commercial Customs Operations Advisory Committee (COAC) will hold its quarterly meeting on Wednesday, September 18, 2024, in Washington, DC. The meeting will be open for the public to attend in-person or via webinar. The in-person capacity is limited to 50 persons for public attendees.

DATES: The COAC will meet on Wednesday, September 18, 2024, from 1:00 p.m. to 5:00 p.m. Eastern Daylight Time (EDT). Please note the meeting may close early if the committee has completed its business. Registration to attend in person and comments must be submitted no later than September 13, 2024.

ADDRESSES: The meeting will be held at the Office of Training and Development, 1717 H Street NW, Washington, DC, in Classroom 7300A. For virtual participants, the webinar information will be posted by 5 p.m. EDT on September 17, 2024, at https://www.cbp.gov/trade/stakeholder-engagement/coac. For information or to request special assistance for the meeting, contact Mrs. Latoria Martin, Office of Trade Relations, U.S. Customs and Border Protection, at (202) 344-1440, as soon as possible.

Comments may be submitted by one of the following methods:

• Federal eRulemaking Portal: http://www.regulations.gov. Search for Docket Number USCBP-2024-0021. To submit a comment, click the “Comment” button located on the top-left hand side of the docket page.

• Email: tradeevents@cbp.dhs.gov. Include Docket Number USCBP-2024-0021 in the subject line of the message.

Comments must be submitted in writing no later than September 13, 2024, and must be identified by Docket No. USCBP-2024-0021. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.5A, Washington, DC 20229, (202) 344-1440; or Ms. Felicia M. Pullam, Designated Federal Officer, at (202) 344-1440 or via email at tradeevents@cbp.dhs.gov.

SUPPLEMENTARY INFORMATION: Notice of this meeting is given under the authority of the Federal Advisory Committee Act, title 5 U.S.C. ch. 10. The Commercial Customs Operations Advisory Committee (COAC) provides advice to the Secretary of the Department of Homeland Security, the Secretary of the Department of the Treasury, and the Commissioner of U.S. Customs and Border Protection (CBP) on matters pertaining to the commercial operations of CBP and related functions within the Department of Homeland Security and the Department of the Treasury.

Pre-Registration: Meeting participants may attend either in person or via webinar. All participants who plan to participate in person must register using the method indicated below:

For members of the public who plan to participate in person, please register online at https://cbptradeevents.certain.com/profile/17899 by 5:00 p.m. EDT on September 13, 2024. For members of the public who are pre-registered to attend the meeting in person and later need to cancel, please do so by 5:00 p.m. EDT on September 13, 2024, utilizing the following link: https://cbptradeevents.certain.com/profile/17899.

For members of the public who plan to participate via webinar, the webinar information will be posted by 5:00 p.m. EDT on September 17, 2024, at https://www.cbp.gov/trade/stakeholder-engagement/coac. Registration is not required to participate virtually.

The COAC is committed to ensuring all participants have equal access regardless of disability status. If you require a reasonable accommodation due to a disability to fully participate, please contact Mrs. Latoria Martin at (202) 344-1440 as soon as possible.

Please feel free to share this information with other interested members of your organization or association.

To facilitate public participation, we are inviting public comment on the issues the committee will consider prior to the formulation of recommendations as listed in the Agenda section below.

There will be a public comment period after each subcommittee update during the meeting on September 18, 2024. Speakers are requested to limit their comments to two minutes or less to facilitate greater participation. Please note the public comment period for speakers may end before the time indicated on the schedule that is posted on the CBP web page: http://www.cbp.gov/trade/stakeholder-engagement/coac.

Agenda

The COAC will hear from the current subcommittees on the topics listed below:

1. The Intelligent Enforcement Subcommittee will provide updates on the work completed and topics discussed in its working groups as well as present proposed recommendations for the COAC's consideration. The Antidumping/Countervailing Duty (AD/CVD) Working Group will provide updates regarding its work and discussions on importer compliance with AD/CVD requirements. The Intellectual Property Rights (IPR) Process Modernization Working Group anticipates providing updates concerning progress associated with its recent recommendations regarding the Trade Seminars Mailbox and enhancements to the CBP Petitions Portal specific to IPR enforcement. The Forced Labor Working Group (FLWG) will provide updates on continued discussions regarding trade outreach, clarification of requirements, and previous recommendations.

2. The Next Generation Facilitation Subcommittee will provide updates on all its existing working groups. The Broker Modernization Working Group (BMWG) plans to present proposed recommendations for the COAC's consideration which aim to improve the end user experience and re-envision the Customs Broker Licensing Exam (CBLE). The Modernized Entry Processes Working Group (MEPWG) will report on the work undertaken regarding Cyber Incident Guidance for Brokers. The Passenger Air Operations (PAO) Working Group has continued to meet to discuss CBP's feedback on past recommendations, landing rights issues, and to plan future goals and/or work for the group. The remaining working groups, the Automated Commercial Environment (ACE) 2.0 Working Group and the Customs Interagency Industry Working Group (CIIWG), were not active this past quarter but will provide a report on topics that each working group will focus on in the coming quarter.

3. The Secure Trade Lanes Subcommittee will provide updates on its seven active working groups: the Centers Working Group, the Cross-Border Recognition Working Group, the De Minimis Working Group, the Export Modernization Working Group, the FTZ Warehouse Working Group, the Pipeline Working Group, and the Trade Partnership and Engagement Working Group. The Centers Working Group created three sub-groups to focus on specific areas of concerns for the trade community: the Operations Sub-Group, the Structure Sub-Group, and the Communications Sub-Group. The Operations Sub-Group will evaluate the internal structure and operations of the Centers of Excellence and Expertise (Centers) and their interactions with the ports, and with the trade communities in the areas of fines, penalties, forfeitures, drawback, and broker management. The Structure Sub-Group will evaluate the number of Centers, the branches within the Centers, and workload equity amongst the Centers. This includes consideration of potential structural changes to help with the Centers' expanded responsibility in admissibility reviews, Uyghur Forced Labor Prevention Act (UFLPA), and Enforce and Protect Act (EAPA) investigations. This sub-group will also consider how information within Customs Trade Partnership Against Terrorism (CTPAT) may be better leveraged to help the Centers with these reviews. The Communications Sub-Group will focus on IT/ACE solutions, including web pages to facilitate communications for CBP internally and externally with the trade. The Cross-Border Recognition Working Group has continued to discuss best practices at ports of entry on the southern border that facilitate legitimate trade. The De Minimis Working Group has continued discussions on the revised timeframe for submitting Type 86 entries and on potential compliance measurements for de minimis shipments that CBP can communicate to the trade community. The Export Modernization Working Group has continued its work on the Electronic Export Manifest Pilot Program and the effects of progressive filing by the shipper to continuously update export information on successive dates, rather than on a specific date. The Export Modernization Working Group is also working on recommendations regarding the CBP Experience (CBPX) to present to the COAC for consideration. The Drawback Task Force, within the Export Modernization Working Group, has continued discussions around COAC-approved recommendations that are in the process of being implemented from last quarter; is conducting an analysis of program statistics in the areas of streamlining privilege application questions, compliance issues, de minimis amount for drawback claims; and is examining areas to maximize resources. The FTZ/Warehouse Working Group continues to review 19 CFR part 146, expanding the CTPAT program, and modernizing ACE functionality for FTZs, and it anticipates presenting proposed recommendations for the COAC's consideration at the September public meeting. The Pipeline Working Group has continued discussing the most appropriate commodities for and potential users of Distributed Ledger Technology to engage in the contemplated pilot for tracking pipeline-borne goods. The Trade Partnership and Engagement Working Group has continued its work on the elements of the CTPAT security program and the validation process.

Meeting materials will be available on September 9, 2024, at: http://www.cbp.gov/trade/stakeholder-engagement/coac/coac-public-meetings.

Felicia M. Pullam,
Executive Director, Office of Trade Relations.

[FR Doc. 2024-19427 Filed 8-28-24; 8:45 am]

BILLING CODE 9111-14-P